DEPARTMENT OF ENERGY

Federal Energy Regulatory Commission

[Project No. 539-015]

Lock 7 Hydro Partners, LLC; Notice of Application Tendered for Filing With the Commission and Soliciting Additional Study Requests and Establishing Procedural Schedule for Relicensing and a Deadline for Submission of Final Amendments

Take notice that the following hydroelectric application has been filed with the Commission and is available for public inspection.

a. Type of Application: New Major License.

b. Project No.: 539-015.

c. Date filed: April 30, 2020.

d. Applicant: Lock 7 Hydro Partners, LLC.

e. Name of Project: Mother Ann Lee Hydroelectric Project.

f. Location: On the Kentucky River, in Mercer and Jessamine Counties, Kentucky. The project would be located at the Commonwealth of Kentucky's existing Lock and Dam No. 7. The project does not occupy any federal land.

g. Filed Pursuant to: Federal Power Act 16 U.S.C. 791 (a)-825(r)

h. Applicant Contact: David Brown Kinloch, Lock 7 Hydro Partners, LLC, 414 S. Wenzel Street, Louisville, KY 40204; (502) 589-0975; email kyhydropower@gmail.com.

i. FERC Contact: Joshua Dub, (202) 502-8138 or Joshua.Dub@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: June 29, 2020.

The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852. For assistance, please contact FERC Online Support at FERCOnlineSupport@ferc.gov, (866) 208-3676 (toll free), or (202) 502-8659 (TTY).

m. The application is not ready for environmental analysis at this time.

n. The Mother Ann Lee Hydroelectric Project is operated in a run-of-river mode and consists of the following existing facilities: (1) A reservoir with a normal pool elevation of 514.6 feet and an estimated surface area of about 830 acres; (2) a 230-foot-long concrete-capped, timber crib dam; (3) a 50-foot-wide, 300-foot-long stone lock chamber; (4) a 120-foot-long by 100-foot-wide forebay; (5) a 116-foot long concrete substructure containing trash racks, 6 intake gates, 3 turbines, and discharge facilities; (6) a 93-foot-long by 25-foot-wide superstructure/powerhouse located above the spillway containing three generating units with a total installed capacity of 2.209 megawatts; (7) a substation connected to the powerhouse by an 85-foot-long footbridge; (8) a 0.86-mile-long, 34.5-kilovolt transmission line; and (9) appurtenant facilities. The estimated average annual generation is 9,200 megawatt-hours.

o. In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

You may also register online at http://www.ferc.gov/docs-filing/esubscription.asp to be notified via email of new filings and issuances related to this or other pending projects. For assistance, contact FERC Online Support.

p. Procedural schedule and final amendments: The application will be processed according to the following preliminary schedule. Revisions to the schedule will be made as appropriate.

Issue Deficiency Letter (if necessary), July 2020.

Request Additional Information, July 2020.

Issue Notice of Acceptance, November 2020.

Issue Scoping Document 1 for comments, December 2020.

Comments on Scoping Document 1, January 2021.

Issue Notice of Ready for Environmental Analysis, February 2021.

Commission issues EA, September 2021.

Comments on draft EA, October 2021.

Final amendments to the application must be filed with the Commission no later than 30 days from the issuance date of the notice of ready for environmental analysis.

Dated: May 8, 2020.
Kimberly D. Bose,
Secretary.

[FR Doc. 2020-10330 Filed 5-13-20; 8:45 am]

BILLING CODE 6717-01-P